DEPARTMENT OF TRANSPORTATION

Federal Aviation Administration

14 CFR Part 39

[Docket No. FAA-2006-26102; Directorate Identifier 2006-NE-36-AD; Amendment 39-15272; AD 2007-24-06]

RIN 2120-AA64

Airworthiness Directives; Societe de Motorisations Aeronautiques (SMA) SR305-230 and SR305-230-1 Reciprocating Engines

AGENCY: Federal Aviation Administration (FAA), Department of Transportation (DOT).

ACTION: Final rule; request for comments.

SUMMARY: We are superseding an existing airworthiness directive (AD) for the products listed above. This AD results from mandatory continuing airworthiness information (MCAI) provided by the European Aviation Safety Agency (EASA) to identify and correct an unsafe condition on SMA SR305-230 and SR305-230-1 reciprocating engines. The MCAI states the following:

Over a period of time, the alteration of one electronic control unit (ECU) electronic component can cause a rapid uncontrolled power increase. Several occurrences have already been reported during engine start or during engine warm-up. This condition, if not corrected, could result in the loss of control of the aircraft if the pilot fails to react appropriately by switching to the mechanical backup mode.

We are issuing this AD to prevent a rapid uncontrolled power increase and possible loss of control of the airplane.

DATES: This AD becomes effective December 13, 2007. The Director of the Federal Register approved the incorporation by reference of SMA Service Bulletin (SB) No. SB-01-76-005, dated December 15, 2006, as of December 13, 2007.

We must receive comments on this AD by December 28, 2007.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Christopher Spinney, Aerospace Engineer, Engine Certification Office, FAA, Engine and Propeller Directorate, 12 New England Executive Park, Burlington, MA 01803; e-mail: Christopher.spinney@faa.gov; telephone (781) 238-7175; fax (781) 238-7199.

SUPPLEMENTARY INFORMATION:

Discussion

On October 31, 2006, we issued AD 2006-23-08, Amendment 39-14820 (71 FR 65041, November 7, 2006). That AD required actions intended to address an unsafe condition on the products listed above. Since we issued AD 2006-23-08, SMA developed a terminating action for the unsafe condition. EASA, which is the Technical Agent for the Member States of the European Community, issued AD 2007-0033, dated February 13, 2007. That AD supersedes EASA EAD 2006-0312-E, which mandated a temporary corrective action to the rapid uncontrolled power increase. EASA AD 2007-0033 retains the requirements of EASA AD 2006-0312-E, and also requires replacing all affected ECUs with a new part number ECU as terminating action. EASA AD 2007-0033 states:

Over a period of time, the alteration of one electronic control unit (ECU) electronic component can cause a rapid uncontrolled power increase. Several occurrences have already been reported during engine start or during engine warm-up. This condition, if not corrected, could result in the loss of control of the aircraft if the pilot fails to react appropriately by switching to the mechanical backup mode.

You may obtain further information by examining the MCAI in the AD docket.

Relevant Service Information

SMA issued SB No. SB-01-76-005, dated December 15, 2006. The actions described in this service information are intended to correct the unsafe condition identified in EASA AD 2007-0033.

FAA's Determination and Requirements of This AD

This product has been approved by the aviation authority of France, and is approved for operation in the United States. Pursuant to our bilateral agreement with France, they have notified us of the unsafe condition described in the EASA AD and service information referenced above. We are issuing this AD because we evaluated all the information provided by EASA and SMA, and determined the unsafe condition exists and is likely to exist or develop on other products of the same type design. This AD requires replacing all affected ECUs with a new part number ECU, as terminating action.

FAA's Determination of the Effective Date

An unsafe condition exists that requires the immediate adoption of this AD. The FAA has found that the risk to the flying public justifies waiving notice and comment prior to adoption of this rule because of the short compliance provided to correct the unsafe condition. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2006-26102; Directorate Identifier 2006-NE-36-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14820; (71 FR 65041, November 7, 2006) and adding the following new AD:

2007-24-06 Societe de Motorisations Aeronautiques (SMA): Amendment 39-15272; Docket No. FAA-2006-26102; Directorate Identifier 2006-NE-36-AD.

Effective Date

(a) This airworthiness directive (AD) becomes effective December 13, 2007.

Affected ADs

(b) This AD supersedes AD 2006-23-08, Amendment 39-14820.

Applicability

(c) This AD applies to SMA SR305-230 and SR305-230-1 engines equipped with an electronic control unit (ECU) having one of the following part numbers (P/Ns): SF01160009-0, SF01160011-0, SP01160013, SP01160051-0, SP01160051-1, SP01160051-2, SP01160051-3, SP01160051-4, SP01160051-5, SP01160089-0, SP01160089-1, SP01160089-2. These engines are installed on, but not limited to, Cessna 182 series airplanes with Supplemental Type Certificate SA03302AT applied.

Reason

(d) European Aviation Safety Agency (EASA) AD 2007-0033, dated February 13, 2007, states:

Over a period of time, the alteration of one electronic control unit (ECU) electronic component can cause a rapid uncontrolled power increase. Several occurrences have already been reported during engine start or during engine warm-up. This condition, if not corrected, could result in the loss of control of the aircraft if the pilot fails to react appropriately by switching to the mechanical backup mode.

We are issuing this AD to prevent a rapid uncontrolled power increase and possible loss of control of the airplane.

Actions and Compliance

(e) Unless already done, do the following actions:

(1) Before further flight, check if the ECU has a P/N listed in the Applicability section of this AD and a serial number (SN) of 131 or below, except SNs 70, 71, 83, and 88. If it does, then do not operate the engine.

(2) Remove and replace the ECU with an ECU P/N SP01160089-3, using SMA Service Bulletin (SB) No. SB-01-76-005, dated December 15, 2006.

(3) No later than 30 days after the effective date of this AD, replace all remaining affected P/N ECUs with an ECU P/N SP01160089-3, using SMA SB No. SB-01-76-005, dated December 15, 2006.

(4) After the effective date of this AD, do not install a spare ECU having a P/N listed in the Applicability section of this AD as a replacement part on any SMA SR305-230 or SR305-230-1 engine.

FAA AD Differences

(f) This AD differs from the Mandatory Continuing Airworthiness Information (MCAI) and/or service information as follows:

(1) EASA AD No. 2007-0033 requires compliance with the AD by March 31, 2007.

(2) This AD, written later, requires compliance within 30 days after the effective date of the AD.

Other FAA AD Provisions

(g) Alternative Methods of Compliance: The Manager, Engine Certification Office, FAA, has the authority to approve alternative methods of compliance for this AD, if requested using the procedures found in 14 CFR 39.19.

Related Information

(h) Refer to EASA AD 2007-0033, dated February 13, 2007, for related information.

(i) Contact Christopher Spinney, Aerospace Engineer, Engine Certification Office, FAA, Engine and Propeller Directorate, 12 New England Executive Park, Burlington, MA 01803; e-mail: Christopher.spinney@faa.gov; telephone (781) 238-7175; fax (781) 238-7199 for more information about this AD.

Material Incorporated by Reference

(j) You must use Societe de Motorisations Aeronautiques Service Bulletin No. SB-01-76-005, dated December 15, 2006, to do the actions required by this AD, unless the AD specifies otherwise.

(1) The Director of the Federal Register approved the incorporation by reference of this service information under 5 U.S.C. 552(a) and 1 CFR part 51.

(2) For service information identified in this AD, contact Societe de Motorisations Aeronautiques, 10-12 Rue Didier Daurat, F-18021 Bourges, France—Telephone +33 (0) 2 4867 5600; Fax: +33 (0) 2 4850 0141; e-mail: customer_services@smasr.com.

(3) You may review service information copies at the FAA, New England Region, 12 New England Executive Park, Burlington, MA 01803; or at the National Archives and Records Administration (NARA). For information on the availability of this material at NARA, call (202) 741-6030, or go to: http://www.archives.gov/federal-register/cfr/ibr-locations.html.

Issued in Burlington, MA, on November 15, 2007.
Peter A. White,
Acting Manager, Engine and Propeller Directorate, Aircraft Certification Service.

[FR Doc. E7-22812 Filed 11-27-07; 8:45 am]

BILLING CODE 4910-13-P